DEPARTMENT OF HEALTH AND HUMAN SERVICES

National Institutes of Health

Statement of Organization, Functions, and Delegations of Authority

Part N, National Institutes of Health, of the Statement of Organization, Functions, and Delegations of Authority for the Department of Health and Human Services (40 FR 22859, May 27, 1975, as amended most recently at 65 FR 38848, June 22, 2000, and redesignated from Part HN as Part N at 60 FR 56606, November 9, 1995) is amended as set forth below to reflect the establishment of the Office of the Ombudsman/Center for Cooperative Resolution within the Office of the Director, NIH.

Section N-B, Organization and Functions, under the heading Office of the Director (NA, formerly HNA) is amended by inserting immediately after the paragraph for the Office of Bioengineering and Bioimaging (HNAC) the following:

Office of the Ombudsman/Center for Cooperative Resolution (NAS, formerly HNAS). (1) Provides overall leadership, direction, and oversight on alternative dispute resolution (ADR) policies, programs, and activities at NIH; (2) acts as the focal point for information and activity relating to conflict management and ADR; (3) advises the NIH Director and staff on matters relating to dispute resolution and conflict management, generally, and to the specific application of ADR throughout NIH; (4) assists managers and employees in a confidential, informal, impartial, and independent way in resolving work-related issues and disputes, including receiving and inquiring into workplace disputes brought to the Ombudsman by any NIH staff member, initiating independent inquiries, identifying and analyzing systemic issues that foster workplace disputes, and making recommendations to the appropriate responsible agency official(s) for changes in policies and procedures; (5) develops and implements ADR policies and procedures and administers ADR programs to facilitate the resolution of workplace disputes; (6) develops and provides conflict prevention services including training and education; and (7) works cooperatively and collaborates with NIH components that administer formal dispute resolution mechanisms.

Delegations of Authority Statement

All delegations and redelegations of authority to offices and employees of NIH that were in effect immediately prior to the effective date of this reorganization and are consistent with this reorganization shall continue in effect, pending further redelegation.

Dated: February 13, 2001.
Ruth L. Kirschstein,
Acting Director, National Institutes of Health.

[FR Doc. 01-4456 Filed 2-22-01; 8:45 am]

BILLING CODE 4140-01-M